DEPARTMENT OF DEFENSE

Office of the Secretary

Reserve Forces Policy Board (RFPB); Cancellation of Meeting

AGENCY: Department of Defense; Office of the Secretary of Defense Reserve Forces Policy Board.

ACTION: Notice of advisory committee meeting cancellation.

SUMMARY: On June 16, 2011 (76 FR 35191), the Department of Defense Reserve Policy Board announced a meeting to be held July 26-27, 2011, from 7:30 a.m. to 4:30 p.m. at the Pentagon in conference room 3E863. Pursuant to the Federal Advisory Committee Act of 1972 (5 U.S.C., Appendix, as amended), the Sunshine in the Government Act of 1976 (5 U.S.C. 552b, as amended), and 41 CFR 102-3.150, the Department of Defense announces that the Federal advisory committee meeting is cancelled due to a lack of a quorum with the exception of an administrative work meeting that will be conducted on July 26, 2011.

FOR FURTHER INFORMATION CONTACT: LtCol Kenneth Olivo, Designated Federal Officer, (703) 697-4486 (Voice), (703) 693-5371 (Facsimile), RFPB@osd.mil. Mailing address is Reserve Forces Policy Board, 7300 Defense Pentagon, Washington, DC 20301-7300. Web site: http://ra.defense.gov/rfpb/.

SUPPLEMENTARY INFORMATION:

Agenda: An administrative work meeting will be conducted on July 26, 2011.

Meeting Accessibility: Pursuant to 5 U.S.C. 552b, as amended, and 41 CFR 102-3.140 through 102-3.165, this administrative meeting is not open to the public.

Written Statements: Pursuant to 41 CFR 102-3.105(j) and 102-3.140, the public or interested organizations may submit written statements to the membership of the Reserve Forces Policy Board at any time or in response to the stated agenda of a planned meeting. Written statements should be submitted to the Reserve Forces Policy Board's Designated Federal Officer. The Designated Federal Officer's contact information can be obtained from the GSA's FACA Database— https://www.fido.gov/facadatabase/public.asp.

Written statements that do not pertain to a scheduled meeting of the Reserve Forces Policy Board may be submitted at any time. However, if individual comments pertain to a specific topic being discussed at a planned meeting then these statements must be submitted no later than five business days prior to the meeting in question. The Designated Federal Officer will review all submitted written statements and provide copies to all the committee members.

Dated: July 7, 2011.
Aaron Siegel,
Alternate OSD Federal Register Liaison Officer, Department of Defense.

[FR Doc. 2011-17557 Filed 7-12-11; 8:45 am]

BILLING CODE 5001-06-P